DEPARTMENT OF AGRICULTURE

Animal and Plant Health Inspection Service

9 CFR Part 94

[Docket No. 02-002-1]

Classical Swine Fever Status of Mexican States of Campeche, Quintana Roo, Sonora, and Yucatan

AGENCY: Animal and Plant Health Inspection Service, USDA.

ACTION: Proposed rule.

SUMMARY: We are proposing to amend the regulations by adding the Mexican States of Campeche, Quintana Roo, Sonora, and Yucatan to the list of regions considered free of classical swine fever. We have conducted a series of risk evaluations and have determined that these four States have met our requirements for being recognized as free of this disease. This proposed action would allow importation into the United States of pork, pork products, live swine, and swine semen from these regions and would eliminate restrictions that no longer appear necessary.

DATES: We will consider all comments that we receive on or before November 29, 2002.

ADDRESSES: You may submit comments by postal mail/commercial delivery or by e-mail. If you use postal mail/commercial delivery, please send four copies of your comment (an original and three copies) to: Docket No. 02-002-1, Regulatory Analysis and Development, PPD, APHIS, Station 3C71, 4700 River Road Unit 118, Riverdale, MD 20737-1238. Please state that your comment refers to Docket No. 02-002-1. If you use e-mail, address your comment to regulations@aphis.usda.gov. Your comment must be contained in the body of your message; do not send attached files. Please include your name and address in your message and “Docket No. 02-002-1” on the subject line.

You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Hatim Gubara, Staff Veterinarian, Regionalization Evaluation Services Staff, National Center for Import and Export, VS, APHIS, 4700 River Road Unit 38, Riverdale, MD 20737-1231; phone (301) 734-4356, fax (301) 734-3222.

SUPPLEMENTARY INFORMATION:

Background

The Animal and Plant Health Inspection Service (APHIS) of the United States Department of Agriculture (USDA) regulates the importation of animals and animal products into the United States to guard against the introduction of animal diseases not currently present or prevalent in this country. The regulations pertaining to the importation of animals and animal products are set forth in the Code of Federal Regulations (CFR), title 9, chapter I, subchapter D (9 CFR parts 91 through 99).

Until several years ago, the regulations in parts 91 through 99 (referred to below as the regulations) governed the importation of animals and animal products according to the recognized disease status of the exporting country. In general, if a disease occurred anywhere within a country's borders, the entire country was considered to be affected with the disease, and importations of animals and animal products from anywhere in the country were regulated accordingly. However, international trade agreements entered into by the United States— specifically, the North American Free Trade Agreement and the World Trade Organization Agreement on Sanitary and Phytosanitary Measures—require APHIS to recognize regions, rather than only countries, for the purpose of regulating the importation of animals and animal products into the United States.

Consequently, on October 28, 1997, we published in the Federal Register a final rule (62 FR 56000-56026, Docket No. 94-106-9, effective November 28, 1997) and a policy statement (62 FR 56027-56033, Docket No. 94-106-8) that established procedures for recognizing regions (referred to below as “regionalization”) for the purpose of regulating the importation of animals and animal products. With the establishment of those procedures, APHIS may consider requests to allow the importation of a particular type of animal or animal product from a foreign region, as well as requests to recognize all or part of a country or countries as a region. The regulations define the term region, in part, as “any defined geographic land area identifiable by geological, political, or surveyed boundaries.”

In accordance with these regionalization procedures, we are proposing to amend the regulations in §§ 94.9 and 94.10 by adding the Mexican States of Campeche, Quintana Roo, Sonora, and Yucatan to the lists of regions considered free of classical swine fever (CSF). This proposed rule would allow importation into the United States of pork, pork products, live swine, and swine semen from these regions and would eliminate restrictions that no longer appear necessary.

Change in Terminology

Our regulations in 9 CFR chapter I use the term “hog cholera.” However, it is standard practice among veterinary practitioners in the international community to refer to hog cholera as “classical swine fever.” For the sake of consistency throughout our regulations in 9 CFR chapter I, we have proposed in another document (67 FR 31987-31992, Docket No. 01-074-1, published May 13, 2002) to, among other things, remove the term “hog cholera” wherever it appears in the existing regulations (i.e., parts 71, 93, 94, 98, and 130) and add in its place the term “classical swine fever.” In the remainder of this proposed rule, including the regulatory text at the end of this document, we use the term “classical swine fever,” or the abbreviation CSF, rather than “hog cholera.”

Risk Evaluation

Using information submitted to us by the Federal Government of Mexico and the State Governments of Campeche, Quintana Roo, Sonora, and Yucatan, as well as information gathered during a site visit by APHIS staff to the three States on the Yucatan Peninsula (Campeche, Quintana Roo, and Yucatan) in March 2001 and several site visits to Sonora, we have reviewed and analyzed the animal health status of these States relative to CSF. This review and analysis was conducted in light of the factors identified in § 92.2, “Application for recognition of the animal health status of a region,” which are used to evaluate the risk associated with importing animals or animal products into the United States from a given region. Based on the information submitted to us, we have concluded the following:

Veterinary Infrastructure

A decree published in Mexico's Federal Official Daily on March 25, 1980, established a national campaign for the control and eradication of CSF. The campaign is mandatory and permanent throughout the entire country. Mexican animal disease control and eradication programs operate under the authority of the Federal Secretariat for Agriculture, Livestock, Rural Development, Fisheries and Food Safety (SAGARPA), and its subordinate Directorate for Animal Health (DGSA). International sea and airport border control for animal and plant products is under the authority of SAGARPA and its subordinate Directorate for Phyto and Zoosanitary Inspection (DGIF).

Yucatan Peninsula

Within each of the three Mexican States of the Yucatan Peninsula, there is a Federal SAGARPA delegate and other Federal personnel assigned to conduct Federal animal health activities in that State. Other personnel include an Assistant Delegate, as well as DGSA and DGIF personnel assigned to work in the State. Within each State of the Yucatan Peninsula, the Federal delegates work with State animal health officials in administering joint Federal/State animal health programs that have the ultimate responsibility for official disease diagnosis, animal disease emergency response, and epidemiological investigations of disease outbreaks. There is a peninsular animal health council consisting of the Federal regional coordinator, State animal health officials, and SAGARPA delegates. This council meets every few months to evaluate and determine the funding needs for animal health activities in the region. Results of our evaluation indicated that animal health officials in the Yucatan Peninsula States have the legal authority to enforce Federal and State regulations regarding CSF and that the necessary veterinary infrastructure is in place to carry out CSF surveillance and control activities. No specific factors were identified in the evaluation that might pose a risk to the United States if pork, pork products, live swine, and swine semen were imported from the Yucatan Peninsula States.

Sonora

Sonora is divided into 11 rural development districts (DDRs). The DDRs are staffed by 20 veterinarians, 12 of whom are Mexican Federal Inspection Standard (TIF) inspectors. The State has a Secretariat for the Development of Livestock Industry with responsibilities for promoting, developing, coordinating, and executing actions to develop the State's livestock industry. Hog slaughtering and processing are done in the State's eight TIF plants. These establishments comply with international sanitary requirements and have official veterinary officers, and are certified by the countries to which they export. In addition, there are 19 municipal and 2 private abattoirs for the slaughter of pigs. Our evaluation indicated that animal health officials in Sonora have the legal authority to enforce Federal and State regulations regarding CSF and that the necessary veterinary infrastructure is in place to carry out CSF surveillance and control activities. No specific factors were identified that might pose a risk to the United States if pork, pork products, live swine, or swine semen were imported from Sonora.

Disease History and Surveillance

In regions, States, or areas in Mexico that are under eradication or free of CSF, the Federal and State governments, as well as swine owners or producers and accredited veterinarians, have responsibility for maintaining epidemiological surveillance for CSF. Surveillance includes inspection of swine products and byproducts and of the official documentation required for the control of movement from eradication areas into free areas, as well as virological monitoring by government and producers. Mexico is currently seeking to eradicate pseudorabies. Blood samples collected for the pseudorabies campaign are also tested for CSF, thus providing additional surveillance for that disease. The surveillance data in tables 1 through 5 below were provided to APHIS by SAGARPA in response to APHIS's information requests.

Yucatan Peninsula

The State of Yucatan has not reported a clinical case of CSF since 1982 and was declared free of CSF by the Government of Mexico in 1995. Quintana Roo was declared free in June 1996, the last case having been detected and eradicated in 1980. Campeche was recognized as free in December 1997, with the last confirmed outbreak having been detected and eradicated in 1989.

The Federal Government of Mexico requires annual testing for CSF. All commercial herds are sampled once a year. Data for the years 1999 and 2000 are shown in tables 1 and 2.

Table 1.—Surveillance Testing in Yucatan Peninsula for CSF, 1999
| Commercial herds sampled | Samples per herd | Backyard herds sampled | Samples per herd
Campeche | 5 | 59 | 299 | 5
Quintana Roo | 38 | 59 | 299 | 5
Yucatan | 211 | 29 | 299 | 5

Table 2.—Surveillance Testing in Yucatan Peninsula for CSF, 2000
| Commercial herds sampled | Samples per herd | Backyard herds sampled | Samples per herd
Campeche | 5 | 59 | scheduled: 348 | 1 to 5
|  |  | sampled: 961 |
Quintana Roo | 35 | 59 | 347 | 5
Yucatan | 238 | 29 | 405 | 5

Sampling has been intensified in high-risk regions. There is a special high-risk zone in Campeche adjacent to Tabasco; this zone consists of the area within 50 kilometers of the Tabasco border and is delineated by peninsular officials, not by the national program. Additional backyard swine premises are tested annually from the risk zone, above the number of samples outlined by the national program. For CSF and pseudorabies, samples are collected from approximately 60 extra premises.

Data for additional passive CSF surveillance sampling conducted under Mexico's pseudorabies eradication program are provided in table 3 below.

Table 3.—Total Numbers of Samples Run for CSF Diagnosis (Program and Other), 2000
State | Number of herds represented | Number of samples
Campeche | 1,035 | 2,091
Quintana Roo | 383 | 3,734
Yucatan | 643 | 8,689

APHIS concluded that authorities in the Yucatan Peninsula are conducting adequate surveillance for CSF to detect the disease if it were to be reintroduced into the peninsula. While there was no specific information presented to show that any wild swine in the peninsula are free of CSF, backyard herds, which may be exposed to wild swine, are actively monitored in the Yucatan Peninsula and have been free of this disease for many years.

Sonora

Sonora last reported a case of CSF in 1985. The Government of Mexico declared the State free of the disease in October 1991. Sonora conducts annual serological surveillance for CSF, as required by the Federal Government of Mexico under its national CSF campaign.

In 1995, Sonora began a comprehensive serologic survey strategy for CSF. The protocol included on-farm, backyard herd, and slaughterhouse sampling. Slaughter surveillance was discontinued in 1996 when serological surveillance became required under the Mexican Norms.

Currently, epidemiological surveillance for CSF in Sonora consists of routine sampling in commercial and backyard herds using the Cannon and Roe formula for estimating the statistical sample size. In commercial farms, 100 percent of farms are covered, with sampling being conducted at a rate that provides a 95 percent confidence level of detecting one or more infected swine when the assumed prevalence of the disease is 10 percent (reduced to 5 percent in 2000). Samples are randomly selected on every farm, with 80 percent of samples taken from sows, 10 percent from boars, and 10 percent from fattening pigs. For backyard premises random samples are collected using the same Cannon and Roe formula, with sampling being conducted at a rate that provides a 95 percent confidence level of detecting one or more infected swine when the assumed prevalence of the disease is 1 percent. Surveillance data for Sonora since 1998 are presented in table 4.

Table 4.—Surveillance Testing in Sonora for CSF, 1998-2001
Year | Commercial: Number of farms | Commercial: Number of animals | Backyard: Number of farms | Backyard: Number. of animals
1998 | 225 | 7,769 | 300 | 1,500
1999 | 209 | 6,373 | 304 | 1,567
2000 | 191 | 7,116 | 260 | 2,504
2001 | 201 | 14,015 | 133 | 1,376

All of the swine sampled from 1998 to 2001 had negative results for CSF. Table 5 shows the numbers of samples targeted, the numbers actually collected, and the coverage rate for the same period (1998 to 2001). Generally, the numbers of animals actually sampled exceeded the targets.

Table 5.—Targets and Actual Samples Taken, 1998-2001
Year | Commercial: Target | Commercial: Actual | Commercial: Percentage of targets sampled | Backyard: Target | Backyard: Actual | Backyard: Percentage of targets sampled
1998 | 3,263 | 7,769 | 238 | 1,203 | 1,500 | 125
1999 | 3,263 | 6,363 | 195 | 1,203 | 1,567 | 130 | 2000 * | 12,803 | 7,116 | 56 | 1,215 | 2,504 | 206
2001 | 10,620 | 14,015 | 132 | 1,325 | 1,376 | 104
* In the year 2000, the Animal Health General Directorate requested that Sonora collect 59 samples from each commercial farm instead of 29, in order to decrease the prevalence parameter in the sampling design. However, because of time constraints, it was agreed that Sonora would collect only 29 samples per farm for that year. Taking into account that there were 217 farms in 2000 and 29 samples were taken from each one, the total number of target samples would have been 6,293, with a coverage rate for that year of 113 percent. In 2001, 59 samples were collected from each farm.

Any suspicion of CSF requires notification of the Exotic Animal Disease Commission (EADC) and is investigated by the EADC regional coordinator or an official veterinarian. Diagnosis is made at the EADC's laboratory facility in Mexico City. Immediate notification would be given to the United States and Canada by telephone or fax as soon as a diagnosis was confirmed.

APHIS concluded that authorities in Sonora are conducting an adequate level of surveillance to detect the disease if it were to be reintroduced. While there was no specific information presented that would show that any wild swine are free of CSF, backyard herds, which may be exposed to wild swine, are actively monitored and have been free of this disease for many years.

Diagnostic Capabilities

Laboratories for CSF diagnosis in Mexico include the National Center for Animal Health Diagnosis (CENASA) in Mexico City; the EADC laboratory, also located in Mexico City; and eight laboratories accredited for the diagnosis of CSF located throughout the country.

Yucatan Peninsula

Two laboratories provide veterinary diagnostic services to the swine and poultry industries on the Yucatan Peninsula. One is a small regional laboratory located in Chetumal in the State of Quintana Roo, and the second is a full-service regional laboratory located in Merida, Yucatan. The Yucatan Regional Laboratory in Merida meets the recommendations of the Office of International Epizootics for equipment and training. An APHIS team visited the laboratory in 2001 and deemed the facilities and personnel adequate for the CSF surveillance program in Yucatan.

Primary surveillance for CSF is carried out by serologic monitoring using the immunoperoxidase test (IPT). Samples with equivocal or positive results are further tested by an ELISA test to confirm the specificity of the antibody. This approach is consistent with serologic methods used in the United States for CSF. Any samples that test positive at the Yucatan laboratory are sent to the CENASA central laboratories in Mexico City for confirmation, and tissues of any suspect animals are sent to the EADC laboratory in Mexico City for virus isolation. The laboratory in Chetumal provides general microbiological services to local producers but does not conduct diagnostic tests for program diseases.

The laboratory in Merida also provides support for hazard analysis and critical control point (HACCP) programs for TIF processing plants in the region. The laboratory does not have an official quality assurance program in place; however, some monitoring of equipment is being performed.

APHIS concluded that the laboratory capabilities and infrastructure in the three States on the Yucatan Peninsula are sufficient to support the CSF surveillance activities, although the team felt that some improvements might be in order.

Sonora

The State of Sonora has three diagnostic laboratories: Ciudad Obregon, Lancer, and Pecuarius. All three laboratories have the capabilities to conduct CSF diagnosis. The two laboratories in Ciudad Obregon and Lancer serve the entire State of Sonora, while the lab in Pecuarius serves Sonora and other Mexican States. APHIS was unable to identify any limitations in Sonora's laboratory capabilities for diagnosis of CSF that would pose a risk to the United States.

Vaccination Status

Vaccination was discontinued in Yucatan in 1993, in Quintana Roo in 1994, in Campeche in 1995, and in Sonora in 1989.

Disease Status of Adjacent Regions

Yucatan Peninsula

Yucatan is bordered to the west by Campeche, and by Quintana Roo to the east and south. Tabasco, the only Mexican State bordering the Yucatan peninsula, shares the western border. Tabasco is a control State for CSF and had four foci of CSF in 2000, all of which were controlled using task forces. The State of Campeche shares its southern border with Guatemala, and the State of Quintana Roo shares its southern border with both Guatemala and Belize. Although the United States considers both Guatemala and Belize to be affected by CSF, officials of the Regional International Organization for Agricultural Health (OIRSA) informed APHIS that CSF has not appeared in Belize since 1988, that it is a notifiable disease, and that vaccination is prohibited. In Guatemala, CSF is more commonly reported in the southern portion of the country, a region not adjacent to Campeche. There were 38 cases and 55 cases reported during 1998 and 1999, respectively. In the Petén region of Guatamala, which abuts Campeche, an outbreak associated with the State of Tabasco was reported in November 2000 and was rapidly eliminated. In survey work in the Petén region, serologic titers have been dropping off as vaccination has declined due to eradication efforts and prohibition of vaccination since 1999.

Although there are continuing CSF outbreaks in the adjacent Mexican State of Tabasco and adjacent countries, APHIS considers that the control point activity in place between the Yucatan Peninsula and the neighboring State and countries is sufficient to reduce substantially the risk of infection being brought in from these regions. In addition, eradication activity for diseases considered exotic is diligent and sufficient for rapid control of outbreaks of the type observed in the past.

Sonora

Sonora borders Chihuahua, Sinaloa, and Baja California in Mexico and Arizona in the United States. Arizona is free of CSF. The disease has not been reported in any of the three Mexican States in over a decade. Baja California was declared to be free of CSF by the Mexican Government in 1991; Chihuahua and Sinaloa were declared CSF-free in 1993. Therefore, disease occurrence in regions adjacent to Sonora is not considered a source of risk to the United States.

Degree of Separation From Adjacent Regions

Yucatan Peninsula

The State of Yucatan is northwest of Quintana Roo. Campeche sits to the west, with Guatemala and Belize located south and southwest. The Gulf of Mexico lies to the north, the Caribbean to the east, and the Hondo River to the south, bordering Belize. Quintana Roo is separated from Guatemala by the Calakmul Biosphere Reserve, which is a natural rain forest protected by the Mexican government, and from Belize by the Hondo River. The border between Campeche and the State of Tabasco, the area of highest risk closest to the Yucatan Peninsula, follows a river for a significant distance. In Campeche's southern part, bordering Guatemala, is the Calakmul Biosphere Reserve. All roads crossing the border have checkpoints. Yucatan has no direct contact with any area of higher risk.

Sonora

The State of Sonora is bordered on the north by the United States, on the east by the State of Chihuahua, on the southeast by the State of Sinaloa, on the south and west by the Gulf of California, and on the northwest by the State of Baja California. Sonora is surrounded along most of its borders by natural physical barriers. The Sierra Madre Mountains separate Sonora's eastern border with Chihuahua and the eastern part of its border with Sinaloa. There are few mountain passes crossing from Chihuahua and only two ports of entry in the southern part of the State, both controlled by inspection points. In the west, the Gulf of California acts as a natural barrier.

Movement Across Borders

Mexican Federal regulations exist to control inter- and intrastate animal movement, and the Federal Government monitors vehicle movements within the States. Movement of live hogs from CSF control zones into free zones is not allowed, thus avoiding the greatest source of risk. Pork products from States of lower health status may be imported into CSF-free States only if they meet time and temperature processing requirements and if they originate from an approved TIF plant. Products must be moved in vehicles sealed with metal straps.

Yucatan Peninsula

The primary means for preventing the reintroduction of CSF into the Yucatan Peninsula is through regulations controlling the movement of land and air traffic. Observations made by site-visit team members verified effective implementation of these controls. Interstate checkpoints are manned at all times. Military personnel are commonly located at these crossing points and provide support. As part of a system of sanitary barriers within Mexico, the border checkpoints between Campeche and Tabasco provide 24-hour inspection and control. All roads that traverse the border between these two States are tightly monitored and controlled by officials from SAGARPA, peninsular governments, and law enforcement and military personnel from Campeche, Quintana Roo, and Yucatan, as well as from the State of Tabasco. The APHIS site-visit team observed that animal and plant products found during vehicle searches were confiscated and incinerated. Movement of livestock and poultry between States is prohibited without proper movement authorization/documentation, and the transport of unauthorized live animals from Tabasco is strictly prohibited.

There are two international airports on the peninsula, one at Merida and one at Cancun. There are national airports in Campeche and Quintana Roo. The site-visit team visited the international airport at Merida, Yucatan. Program officials inspect incoming domestic flights, including passengers, cargo, and containers for unpermitted agricultural products, including food wastes and stores. Because most domestic flights originate from areas not yet declared free of CSF, food served on airplanes is not permitted to contain pork.

The maritime port of Progreso primarily handles shipments of grain. Animals and animal products are permitted entry if the proper health certificate and permitting requirements are met. There are four full-time inspectors, including two veterinarians.

Animals can be brought into the Yucatan Peninsula States only from disease-free zones of Mexico. Permits specify that swine must come in via a specified route through low-risk States; the greatest problem is the State of Tabasco due to its more frequent disease findings as compared with other regions. To address this, Federal and State officials have set up a system requiring that animals must transit Tabasco within an approved time limit. Pork products from States of lower health status may be imported only if they meet time and temperature processing requirements and if they originate in an approved TIF plant.

Officials in the Yucatan Peninsula have the authority, procedures, and the infrastructure for effective enforcement of the system of permits, inspection, quarantines, and treatments in place to control animals and animal products. APHIS was unable to identify specific limitations in the system that might pose a risk to the United States.

Sonora

The primary means for preventing the reintroduction of CSF in Sonora is through the implementation of Federal and local regulations to control animal and animal product movements. A system of permits, inspections, quarantines, and treatments is in place to control the cross-border movements of animals and animal products. The State government gives authorization for the entry of animals and checks and reviews documentation at inspection posts for animals and vehicles. The Federal government issues import/export permits, distributes animal health certificates to the State's Livestock Producers' Union, reviews inspection documents, and, when necessary, applies quarantine measures at control posts. Under its cooperative arrangement with the Federal government, the Livestock Producers' Union reviews documentation required for sanitary waybills and issues the animal health certificates. Sonora has the authority, procedures, and infrastructure to enforce its regulations effectively. APHIS was unable to identify specific limitations in the system that might pose a risk to the United States.

Livestock Demographics and Marketing Practices

Yucatan Peninsula

In recent years, the Yucatan Peninsula has seen a significant growth in production of poultry, swine, and cattle. Several major companies control the commercial herds. The site-visit team had the opportunity to go to one of the large commercial farms and a swine processing plant. Both followed strict biosecurity measures. The site-visit team also went to the peninsula's only USDA-approved TIF swine processing plant, located near Merida, Yucatan. The current capacity of this plant is about 500,000 head per year, and the plant exports 8 to 9 containers (22 tons/container) of pork per week to Japan and Korea. The plant is expected to increase its capacity to 850,000 head per year by 2002 to meet the demands of the growing export market.

For both economic and animal health reasons, the swine industry in the Yucatan Peninsula is committed to producing quality hogs and maintaining CSF-free status. Industry leaders have demonstrated awareness of animal disease control measures to ensure the maintenance of a healthy and productive animal industry. Industry groups contribute funds to develop and improve sanitary operations to maintain the CSF-free status of their respective States. The eradication of CSF from the peninsula was largely due to the dedication and persistence of the industry and to its willingness to work with animal health officials to ensure that the disease is not reintroduced. No factors were identified in this category that might pose a risk to the United States if swine or swine products were to be imported from Campeche, Quintana Roo, or Yucatan.

Sonora

The swine industry in Sonora is made up of only about 174 producers, who own about 136,000 sows with an annual production of 2.4 million market hogs. The State supplies about 14 percent of Mexico's pork production. The average herd has about 600 to 800 sows. Commercial production is similar to that seen in the United States. Ninety-five percent or more of the production is commercial. The swine industry owns and operates its own slaughter facilities, which are under Federal inspection, and implements very good security measures at all production levels. Detailed production records are maintained, and necropsies are routinely performed on site. For both economic and animal health reasons, the swine industry in Sonora is committed to the production of quality hogs and maintaining CSF-free status. A unique and collaborative relationship exists among the swine producer associations, the Livestock Subdelegate office, and the State and Federal animal health officials. The CSF campaign in Sonora was financed by the swine producers' associations.

A small number of backyard farms exist in Sonora. Production from these farms is for local (family) consumption. A possible risk factor for the reintroduction of CSF into Sonora is the lack of enforcement of the prohibition on garbage feeding for backyard swine. This risk is mitigated, however, because Mexico has an international garbage control system in place that is actively operational at seaports and international airports. Based on previous site visits, it is APHIS's view that the same active system holds true for Sonora. Therefore, the swill being fed to backyard pigs is produced locally and does not come from external garbage sources that might be infected with CSF. Moreover, backyard swine are unlikely to be exported directly or to come in contact with commercial swine, so the issue of garbage feeding is not seen as one that would be likely to affect U.S. imports.

APHIS did not identify any factors in the livestock demographics and marketing practices category that might pose a risk to the United States if swine or swine products were to be imported from Sonora.

Detection and Eradication of Disease

CSF has been effectively controlled and eradicated from Campeche, Quintana Roo, Sonora, and Yucatan and is not known to exist in those four States at this time. The Government of Mexico and the State Governments maintain a surveillance system capable of rapidly detecting CSF should the disease be reintroduced in any of the four States. The Federal Government of Mexico and the State Governments of Campeche, Quintana Roo, Sonora, and Yucatan have the laws, policies, and infrastructure to detect, respond to, and eliminate any reoccurrence of CSF.

These findings are described in further detail in a qualitative evaluation that may be obtained from the person listed under FOR FURTHER INFORMATION CONTACT and may be viewed on the Internet at http://www.aphis.usda.gov/vs/reg-request.html by following the link for current requests and supporting documentation. The evaluation documents the factors that have led us to conclude that Campeche, Quintana Roo, Sonora, and Yucatan are free of CSF. Therefore, we are proposing to recognize the Mexican States of Yucatan, Campeche, Quintana Roo, and Sonora as free of CSF and to add them to the lists in §§ 94.9 and 94.10 of regions where CSF is not known to exist.

We are also proposing to amend § 94.15, which, among other things, sets out requirements for transit through the United States of pork and pork products that are not otherwise eligible for entry into the United States under part 94. Because these requirements would no longer apply to pork and pork products from Campeche, Quintana Roo, Sonora, and Yucatan, references to these States in § 94.15(b) and § 94.15(b)(2) would be removed.

Finally, we are proposing to remove and reserve § 94.20, which contains restrictions on the importation into the United States of pork and pork products from the States of Sonora and Yucatan. Under the proposed rule, these restrictions would no longer apply.

Executive Order 12866 and Regulatory Flexibility Act

This proposed rule has been reviewed under Executive Order 12866. The rule has been determined to be not significant for the purposes of Executive Order 12866 and, therefore, has not been reviewed by the Office of Management and Budget.

This proposed rule would amend the regulations in §§ 94.9 and 94.10 by adding the Mexican States of Campeche, Quintana Roo, Sonora, and Yucatan to the lists of regions considered free of CSF. These proposed changes would allow importation into the United States of pork, pork products, live swine, and swine semen from these regions.

Based on the assumption that Campeche, Quintana Roo, Sonora, and Yucatan would not drastically increase their levels of production of live swine, swine semen, pork, and pork products over those of the last few years, we do not anticipate that U.S. producers of those commodities would experience any substantial negative economic effects as a result of this proposed action. This is because the United States could be expected to import only a small amount of those commodities from the four Mexican States.

This proposed rule is likely to have a minimal effect on U.S. live swine markets, both in the short term and in the medium term. Hog inventory of the four States covered by this rulemaking amounted to about 5 percent of U.S. hog and pig inventory in 2001.¹ Moreover, the four States covered by this rulemaking account for only about 13 percent of Mexico's live swine production. In 2001, the State of Sonora produced 10 percent of Mexico's live swine, Yucatan 2.3 percent, Quintana Roo 0.7 percent, and Campeche 0.2 percent. Figures for live swine are provided in table 6.

¹ Agricultural Outlook, Aug. 2002, p. 47.

Table 6.—Live Hogs in Four Mexican States and Mexico as a Whole, 2001
State | Hogs in commercial farms | Hogs in backyard operations | All hogs
Campeche | 6,612 (in 5 farms) | 31,607 (in 137,174 farms) | 38,219
Quintana Roo | 29,179 (in 38 farms) | 137,174 (in 13,450 farms) | 166,353
Sonora | 2,536,000 (in 174 farms) | 200 (unknown farms) | 2,536,200
Yucatan | 500,000 (in 252 farms) | 82,672 (in 8,786 farms) | 582,672
Sum of 4 States | 3,071,791 | 251,653 | 3,323,444
Mexico | 25,736,000 (pig crop + beginning stocks) in both commercial and backyard operations
Source: Risk Assessments of Importing Pork into the United States from the Mexican States of Campeche, Quintana Roo, Sonora, and Yucatan; Risk Analysis Systems, PPD, APHIS, USDA.

This rulemaking is also unlikely to have a significant effect on U.S. pork and pork products markets because, as with live swine, the United States is unlikely to import large amounts of these commodities from Campeche, Quintana Roo, Sonora, and Yucatan. The United States is a net exporter of pork, while Mexico, as indicated below in tables 7 and 8, is a net importer. Between 1999 and 2001, Mexican imports ranged between 130,000,000 and 150,000,000 kilograms, and exports ranged between 33,000,000 and 40,000,000 kilograms. Exports averaged only around 3.3 percent of total Mexican pork production.

Table 7.—Mexican Pork Production and Imports (Kilograms)
Calendar Year | 1999 | 2000 | 2001
Production | 994,000,000 | 1,035,000,000 | 1,060,000,000
Imports | 143,000,000 | 130,000,000 | 150,000,000
Total Supply | 1,137,000,000 | 1,165,000,000 | 1,210,000,000
Source: USDA, FAS, GAIN Report # MX1010, Mexico, Livestock and Products, Semiannual Report 2001; Source for stocks is the FAOSTAT database.

Table 8.—Mexican Pork Consumption and Exports (Kilograms)
Calendar Year | 1999 | 2000 | 2001
Exports | 33,000,000 | 35,000,000 | 40,000,000
Domestic Consumption | 1,104,000,000 | 1,130,000,000 | 1,170,000,000
Total Demand | 1,137,000,000 | 1,165,000,000 | 1,210,000,000
Source: USDA, FAS, GAIN Report # MX1010, Mexico, Livestock and Products, Semiannual Report 2001.

Economic Impact on Small Entities

The Regulatory Flexibility Act requires that agencies consider the economic impact of their rules on small entities. The domestic entities most likely to be affected by our proposal to declare the Mexican States of Campeche, Quintana Roo, Sonora, and Yucatan free of CSF are pork producers.

According to the 1997 Agricultural Census, there were about 102,106 hog and pig farms in the United States in that year, of which 93 percent received $750,000 or less in annual revenues. Agricultural operations with $750,000 or less in annual receipts are considered small entities, according to the Small Business Administration (SBA) size criteria.

We do not expect that U.S. hog producers, U.S. exporters of live hogs, or U.S. exporters of pork and pork products, small or otherwise, would be affected significantly by this proposed rule. This is because, for the reasons discussed above, the amount of live swine, pork, other pork products, and swine semen imported into the United States from the Mexican States of Sonora, Yucatan, Campeche, and Quintana Roo is likely to be small.

Under these circumstances, the Administrator of the Animal and Plant Health Inspection Service has determined that this action would not have a significant economic impact on a substantial number of small entities.

Executive Order 12988

This proposed rule has been reviewed under Executive Order 12988, Civil Justice Reform. If this proposed rule is adopted: (1) All State and local laws and regulations that are inconsistent with this rule will be preempted; (2) no retroactive effect will be given to this rule; and (3) administrative proceedings will not be required before parties may file suit in court challenging this rule.

Paperwork Reduction Act

This proposed rule contains no new information collection or recordkeeping requirements under the Paperwork Reduction Act of 1995 (44 U.S.C. 3501 et seq.).

List of Subjects in 9 CFR Part 94

Animal diseases, Imports, Livestock, Meat and meat products, Milk, Poultry and poultry products, Reporting and recordkeeping requirements.

Accordingly, we propose to amend 9 CFR part 94 as follows:

PART 94—RINDERPEST, FOOT-AND-MOUTH DISEASE, FOWL PEST (FOWL PLAGUE), EXOTIC NEWCASTLE DISEASE, AFRICAN SWINE FEVER, HOG CHOLERA, AND BOVINE SPONGIFORM ENCEPHALOPATHY: PROHIBITED AND RESTRICTED IMPORTATIONS

1. The authority citation for part 94 would continue to read as follows:

Authority: 7 U.S.C. 450, 7711-7714, 7751, 7754, 8303, 8306, 8308, 8310, 8311, and 8315; 21 U.S.C. 136 and 136a; 31 U.S.C. 9701; 42 U.S.C. 4331 and 4332; 7 CFR 2.22, 2.80, and 371.4.

§ 94.9 [Amended]

2. In § 94.9, paragraph (a) would be amended by adding the words “the Mexican States of Campeche, Quintana Roo, Sonora, and Yucatan;” after the words “Isle of Man;”.

§ 94.10 [Amended]

3. In § 94.10, paragraph (a) would be amended by adding the words “the Mexican States of Campeche, Quintana Roo, Sonora, and Yucatan;” after the words “Isle of Man;”.

4. In § 94.15, paragraph (b), introductory text, and paragraph (b)(2) would be revised to read as follows:

§ 94.15 Animal products and materials; movement and handling.

* * * * *

(b) Pork and pork products from Baja California, Baja California Sur, Chihuahua, Coahuila, Nuevo Leon, and Sinaloa, Mexico, that are not eligible for entry into the United States in accordance with this part may transit the United States via land border ports for immediate export if the following conditions are met:

(1) * * *

(2) The pork or pork products are packaged at a Tipo Inspección Federal plant in Baja California, Baja California Sur, Chihuahua, Coahuila, Nuevo Leon, or Sinaloa, Mexico, in leakproof containers and sealed with serially numbered seals of the Government of Mexico, and the containers remain sealed during the entire time they are in transit across Mexico and the United States.

* * * * *

§ 94.20 [Removed and Reserved]

5. Section 94.20 would be removed and reserved.

Done in Washington, DC, this 24th day of September, 2002.
Peter Fernandez,
Acting Administrator, Animal and Plant Health Inspection Service.

[FR Doc. 02-24753 Filed 9-27-02; 8:45 am]

BILLING CODE 3410-34-P